DEPARTMENT OF HEALTH AND HUMAN SERVICES

Centers for Medicare and Medicaid Services

[CMS-R-64, CMS-R-26, CMS-10005, CMS-3427]

Agency Information Collection Activities: Proposed Collection; Comment Request

AGENCY: Centers for Medicare and Medicaid Services, HHS.

In compliance with the requirement of section 3506(c)(2)(A) of the Paperwork Reduction Act of 1995, the Centers for Medicare and Medicaid Services (CMS) (formerly known as the Health Care Financing Administration (CMS)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection.

Title of Information Collection: Indirect Medical Education (IME) and Supporting Regulations in 42 CFR 412.105.

Form No.: CMS-R-64 (OMB# 0938-0456).

Use: This collection of information on interns and residents (IR) is needed to properly calculate Medicare program payments to hospitals that incur indirect costs for medical education. The agency's Intern and Resident Information System uses the information for producing automated reports of duplicate full-time equivalent IRs for IME. The reports provide contractors with information to ensure that hospitals are properly reimbursed for IME, and help eliminate duplicate reporting of IR counts, which inflate payments. The collection of this information affects 1,350 hospitals which participate in approved medical education programs.

Frequency: Annually.

Affected Public: Not-for-profit institutions, and Business or other for-profit.

Number of Respondents: 1,225.

Total Annual Responses: 1,225.

Total Annual Hours: 2,450.

2. Type of Information Request: Revision of a currently approved collection.

Title of Information Collection: Clinical Laboratory Improvement Amendments (CLIA) and the ICRs contained in the supporting regulations in 42 CFR 493.1-493.2001.

Form Number: CMS-R-26 (OMB approval #: 0938-0612).

Use: The ICRs referenced in 42 CFR part 493 outline the requirements necessary to determine an entity's compliance with CLIA. CLIA requires laboratories that perform testing on human beings to meet performance requirements (quality standards) in order to be certified by HHS.

Frequency: Other: As needed.

Affected Public: Business or other for-profit, Not-for-profit institutions, Federal government, State, local or tribal gov't.

Number of Respondents: 168,688.

Total Annual Responses: 756,241.

Total Annual Hours Requested: 9,379,917.

3. Type of Information Request: Extension of a currently approved collection.

Title of Information Collection: Ticket to Work and Work Incentives: Medicaid Infrastructure Grants.

Form Number: CMS-10005 (OMB approval #: 0938-0811).

Use: Section 203 of the Ticket to Work and Work Incentives Act of 1999 provides for the establishment of a grants program for states that build infrastructures designed to support people with disabilities. State agencies will be applying for these grants.

Frequency: Annually.

Affected Public: State, local or tribal govt.

Number of Respondents: 56.

Total Annual Responses: 56.

Total Annual Burden Hours: 5,600.

4. Type of Information Collection Request: Extension of a currently approved collection.

Title of Information Collection: End Stage Renal Disease Application and Survey and Certification Report and Supporting Regulations in 42 CFR 405.2100-405.2184.

Form No.: CMS-3427 (OMB# 0938-0360).

Use: Part I of this form is a facility identification and screening measurement used to initiate the certification and recertification of ESRD facilities. Part II is completed by the Medicare/Medicaid State survey agency to determine facility compliance with ESRD conditions for coverage.

Frequency: Annually.

Affected Public: State, local or tribal government.

Number of Respondents: 4000.

Total Annual Responses: 1,320.

Total Annual Hours: 330.

To obtain copies of the supporting statement and any related forms for the proposed paperwork collections referenced above, access CMS's Web site address at http://cms.hhs.gov/regulations/pra/default.asp, or e-mail your request, including your address, phone number, OMB number, and CMS document identifier, to Paperwork@cms.hhs.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: June 19, 2003.
Dawn Willinghan,
CMS Reports Clearance Officer, Division of Regulations Development and Issuances, Office of Strategic Operations and Strategic Affairs.

[FR Doc. 03-16105 Filed 6-25-03; 8:45 am]

BILLING CODE 4120-03-P